DEPARTMENT OF THE INTERIOR

Bureau of Land Management

[LLCO910000, L71220000.PN0000, LVTFC002CO00]

Final Supplementary Rules for Public Land Administered by the Bureau of Land Management in Colorado Relating to Camping and Occupancy of Public Lands

AGENCY: Bureau of Land Management, Interior.

ACTION: Final supplementary rules for public lands in Colorado.

SUMMARY: The Bureau of Land Management (BLM) is amending supplementary rules relating to camping on public lands in Colorado. These rules extend the time the public must remain absent from a site once the current 14-day camping stay limit is reached. They also require that once campers have camped for 14 days, they must move away from that particular location for 30 days, rather than seven days, before returning. These rules are needed to further protect natural resources and provide for public health and safety. These supplementary rules will be more consistent with camping and occupancy regulations on public lands in other western states.

DATES: Effective Date: These rules are effective July 12, 2010.

ADDRESSES: You may send inquiries by mail to the Office of Law Enforcement, BLM, Colorado State Office, 2850 Youngfield Street, Lakewood, Colorado 80215, or by e-mail to John_Bierk@blm.gov.

FOR FURTHER INFORMATION CONTACT: John Bierk, Colorado State Office, 2850 Youngfield Street, Lakewood, CO 80215, telephone (303) 239-3893. Persons who use a telecommunications device for the deaf (TDD) may contact this individual by calling the Federal Information Relay Service (FIRS) at (800) 877-8339, 24 hours a day, seven days a week.

SUPPLEMENTARY INFORMATION:

I. Authority

II. Background

III. Discussion of Public Comments

IV. Discussion of Final Rule

V. Procedural Matters

I. Authority: 43 U.S.C. 1740, 43 U.S.C. 315a, and 43 CFR 8365.1-6

II. Background

The BLM proposed these supplementary rules in the Federal Register (73 FR 6999) on Feb. 6, 2008, to update supplementary rules published in 1990 that were no longer effective in managing camping and occupancy on public land. In addition, the 1990 supplementary regulations were inconsistent with the camping and occupancy regulations on public land in other western states.

III. Discussion of Public Comments

The BLM received no comments on the proposed rules.

IV. Discussion of Final Rule

The BLM revised the final rule to clarify the description of locations to include campgrounds, clarify the 14-day stay limit, and clarify penalties under the Taylor Grazing Act of 1934. The BLM revised the final rule to change the amount of time unattended property could be left on public land from 24 hours to 48 hours. This change was made so that legitimate and authorized recreational use was not adversely affected. In the final rule, unattended property in day use areas was excluded so the final rule would remain consistent with time limits found in 43 CFR 8365.2-3(c). Prohibited acts 6, 7, and 9 in the proposed supplemental rules were removed because similar regulations already exist in Title 43 CFR. The BLM also revised the final rule to change the time when fees need to be paid upon entering a fee site from 30 minutes after occupying any camp site to within 30 minutes of entering the fee area. Otherwise, with the exception of minor non-substantive grammatical and formatting changes, the final rules remain as proposed.

The current camping stay limit was published in the Federal Register (55 FR 13672) on April 11, 1990, and, while it limited occupancy of any site to 14 days, it only required departure for seven days, or removal to a new site no less than three miles away before returning to the site. As a result, certain users have taken advantage of the existing rules and established long-term residency under the pretext of camping. Residential occupancy, which frequently includes illegal campfire use, vegetation trampling, unauthorized vehicle use, and trash dumping, often interferes with legitimate recreational use of public lands, creates sanitation and other potential health concerns, causes damage to resources, and occasionally poses dangers to other visitors. These new rules differ from the notice published in 1990 by increasing the distance campers must move after reaching the 14-day limit from three miles to 30 miles, consistent with camping regulations on public lands in other western states. The 1990 notice stated that following the 14-day period, people may not relocate within that area for a minimum of seven days; these rules extend that time period to 30 days, also consistent with camping regulations on public lands in other western states. Additional provisions limit the occurrence of unattended campsites that are being established for the purpose of securing campsite locations for later use.

These supplementary rules apply to all public lands in Colorado. These rules are necessary to enhance the protection of natural resources, provide for safe public recreation and public health, reduce the potential for damage to the environment, encourage greater fee compliance, and improve the safety of public land users. Individual field offices may issue separate regulations relating to camping and occupancy that are more, but not less, restrictive. This notice does not affect more restrictive camping limits that may already be in place for certain areas.

V. Procedural Matters

Executive Order 12866, Regulatory Planning and Review

These supplementary rules would not comprise a significant regulatory action and are not subject to review by the Office of Management and Budget under Executive Order 12866. The supplementary rules would not have an effect of $100 million or more on the economy. They would not adversely affect, in a material way, the economy, productivity, competition, jobs, the environment, public health or safety, or state, local, or tribal governments or communities. These supplementary rules would not create a serious inconsistency or otherwise interfere with an action taken or planned by another agency. These supplementary rules would not alter the budgetary effects of entitlements, grants, user fees, or loan programs or the rights or obligations of their recipients, nor do they raise novel legal or policy issues.

Clarity of the Regulations

Executive Order 12866 requires each agency to write regulations that are simple and easy to understand. The BLM invites your comments on how to make these supplementary rules easier to understand, including answers to questions such as the following:

1. Are the requirements in the supplementary rules clearly stated?

2. Do the supplementary rules contain technical language or jargon that interferes with their clarity?

3. Does the format of the supplementary rules (grouping and order of sections, use of headings, paragraphing, etc.) aid or reduce clarity?

4. Is the description of the supplementary rules in the SUPPLEMENTARY INFORMATION section of this preamble helpful in understanding the supplementary rules? How could this description be more helpful in making the supplementary rules easier to understand?

Please send any comments you have on the clarity of the rule to the addresses specified in the ADDRESSES section.

National Environmental Policy Act

The BLM prepared an environmental assessment (EA) and found that the supplementary rules do not constitute a major Federal action significantly affecting the quality of the human environment under section 102(2)(C) of the National Environmental Policy Act of 1969 (NEPA), 42 U.S.C. 4332(2)(C). The BLM placed the EA and the Finding of No Significant Impact on file in the BLM Administrative Record, and invites the public to review these documents at the address specified in the ADDRESSES section.

Regulatory Flexibility Act

Congress enacted the Regulatory Flexibility Act (RFA) of 1980, as amended (5 U.S.C. 601-612) to ensure that government regulations do not unnecessarily or disproportionately burden small entities. The RFA requires a regulatory flexibility analysis if a rule would have a significant economic impact, either detrimental or beneficial, on a substantial number of small entities. These supplementary rules merely establish rules of conduct for camping and occupancy on public lands. Therefore, the BLM has determined under the RFA that the supplementary rules would not have a significant economic impact on a substantial number of small entities.

Small Business Regulatory Enforcement Fairness Act

These supplementary rules do not constitute a “major rule” as defined in 5 U.S.C. 804(2). The supplementary rules pertain only to individuals who may wish to occupy public lands for residential purposes under the pretext of camping, or maintain, construct, place, occupy or use any structure in violation of state or county health, building, sanitation or fire codes. In this respect, the regulation of such use is necessary to protect public lands, the facilities, and people, including small business concessionaires and outfitters, who use them. The supplementary rules do not affect commercial or business activities of any kind.

Unfunded Mandates Reform Act

These supplementary rules would not impose an unfunded mandate on state, local or tribal governments or the private sector of more than $100 million per year; nor would they have a significant or unique effect on small governments. The rules would have no effect on governmental or tribal entities and would impose no requirements on any of these entities. The supplementary rules merely establish rules of conduct for the use of public lands and do not affect tribal, commercial, or business activities of any kind. Therefore, the BLM is not required to prepare a statement containing the information required by the Unfunded Mandates Reform Act (2 U.S.C. 1531 et seq.).

Executive Order 12630, Governmental Actions and Interference With Constitutionally Protected Property Rights (Takings)

These supplementary rules would not represent a government action capable of interfering with constitutionally protected property rights. Therefore, the Department of the Interior has determined that the supplementary rules would not cause a taking of private property or require further discussion of takings implications under this Executive Order.

Executive Order 13132, Federalism

The supplementary rules would not have a substantial direct effect on the states, on the relationship between the national government and the states, or on the distribution of power and responsibilities among the various levels of government. Therefore, in accordance with Executive Order 13132, the BLM has determined that these supplementary rules would not have sufficient Federalism implications to warrant preparation of a Federalism Assessment.

Executive Order 12988, Civil Justice Reform

Under Executive Order 12988, the BLM has determined that these supplementary rules would not unduly burden the judicial system and that they meet the requirements of sections 3(a) and 3(b)(2) of Executive Order 12988.

Executive Order 13175, Consultation and Coordination With Indian Tribal Governments

In accordance with Executive Order 13175, these supplementary rules do not include policies that have tribal implications.

Paperwork Reduction Act

The supplementary rules would not directly provide for any information collection that the Office of Management and Budget must approve under the Paperwork Reduction Act of 1995, 44 U.S.C. 3501 et seq. Any information collection that may result from Federal criminal investigations or prosecutions conducted under these supplementary rules are exempt from the provisions of 44 U.S.C. 3518(c)(1).

Executive Order 13211, Actions Concerning Regulations That Significantly Affect Energy Supply, Distribution, or Use

Under Executive Order 13211, the BLM has determined that the supplementary rules would not comprise a significant energy action, and that they would not have an adverse effect on energy supplies, production, or consumption.

Author

The principal author of these supplementary rules is John Bierk, State Staff Ranger, Bureau of Land Management, Colorado State Office, 2850 Youngfield Street, Lakewood, CO 80215.

Final Supplementary Rules for Public Land Administered by the Bureau of Land Management in Colorado Relating to Camping and Occupancy of Public Land

For the reasons stated in the preamble, and under the authorities for supplemental rules found at 43 U.S.C. 1740, 43 U.S.C. 315a, and 43 CFR 8365.1-6, the Colorado State Director, Bureau of Land Management (BLM) issues these supplementary rules for public lands managed by the BLM in Colorado, to read as follows:

Definitions

Camping means the erecting of a tent or shelter of natural or synthetic material; preparing a sleeping bag or other bedding material for use; parking of a motor vehicle, motor home or trailer; or mooring of a vessel for the apparent purpose of overnight occupancy while engaged in recreational activities such as hiking, hunting, fishing, bicycling, sightseeing, off-road vehicle activities, or other generally recognized forms of recreation.

Campground means any area specifically designated for overnight camping.

Developed Campground means any campground that has been improved specifically for camping purposes and may include designated campsites, delineated spaces, structures, or improvements typically provided for camping purposes. Structures and improvements may include, but are not limited to, picnic tables, grills or fire rings, sanitary facilities, trash receptacles, potable water, locks, and information kiosks. User fees may be charged for the use of developed campgrounds and improvements.

Day Use Area means any area open for public access only during daylight hours, typically between sunrise and sunset, or where specific hours of operation have been identified. Overnight use in these areas is specifically prohibited.

Designated Recreation Area means an area officially designated by official order or notice, or identified in planning documents in which the BLM has determined the resources require special management and control measures for resource protection.

Fee Area means any area open for public access where fees for use of the area are charged.

Occupancy means full or part-time residence on public lands for non-recreational purposes, such as temporary residence in connection with, or while seeking, employment in the vicinity, or because another permanent residence is not available. It also means activities that involve residence, such as the construction, presence, or maintenance of temporary or permanent structures that may be used for such purposes, or the use of a watchman or caretaker for the purpose of monitoring activities. Residence or structures include, but are not limited to, barriers to access, fences, tents, motor homes, trailers, cabins, houses, buildings, and storage of equipment or supplies.

Prohibited Acts

Unless otherwise authorized, the following acts are prohibited on public lands within Colorado:

1. You must not camp longer than 14 days in any 30-day period, at any one location, including any campground on public land.

2. After the 14 days have been reached, you must move at least 30 air miles away from the previously occupied location.

3. You must not leave any personal property or refuse after vacating the campsite. This includes any property left for the purposes of use by another camper or occupant.

4. You must not leave personal property unattended in a campground, designated recreation area, or on any other public lands for more than 48 hours. Vehicles left parked for the purpose of overnight camping, hiking, river rafting or other authorized recreation activities are exempt.

5. You must not establish occupancy, take possession of, or otherwise use public lands for residential purposes except as allowed under 43 CFR 3715.2, 3715.2-1, 3715.5, 3715.6, or with prior written authorization from the BLM.

6. If an area charges fees, you must register if required, and pay fees within 30 minutes of entering the fee area.

7. You must not violate any State of Colorado or county laws or regulations relating to public health, safety, sanitation, building or fire codes while camping, occupying, or using public land.

Exemptions

The following persons are exempt from these rules: Any Federal, state, or local officer or employee acting within the scope of their duties; members of any organized rescue or fire-fighting force in performance of an official duty; and any person authorized, in writing, by the BLM.

Penalties

Under the Taylor Grazing Act of 1934, 43 U.S.C. 315a, any willful violation of these supplementary rules on public lands within a grazing district shall be punishable by a fine of not more than $500.

Under section 303(a) of the Federal Land Policy and Management Act of 1976, 43 U.S.C. 1733(a) and 43 CFR 8360.0-7, any person who violates any of these supplementary rules on public lands within Colorado may be tried before a United States Magistrate and fined no more than $1,000, imprisoned for no more than 12 months, or both. Such violations may also be subject to the enhanced fines provided for by 18 U.S.C. 3571.

Lynn E. Rust,
Acting State Director.

[FR Doc. 2010-13960 Filed 6-9-10; 8:45 am]

BILLING CODE 4310-JB-P